FEDERAL RETIREMENT THRIFT INVESTMENT BOARD

Sunshine Act Meeting

Time and Date: 9 a.m. (EDT), June 20, 2003.

Place: 4th Floor, Conference Room, 1250 H Street, NW., Washington, DC.

Status: The meeting will be closed to the public.

Matters to be Considered: Discussion of litigation matters.

For Further Information Contact: Thomas J. Trabucco, Director, Office of External Affairs, (202) 942-1640.

Dated: June 16, 2003.
Elizabeth S. Woodruff,
Secretary to the Board, Federal Retirement Thrift Investment Board.

[FR Doc. 03-15584 Filed 6-16-03; 4:00 pm]

BILLING CODE 6760-01-M